NATIONAL CAPITAL PLANNING COMMISSION

Public Comment on Draft, Updated Submission Guidelines

Correction

Notice document 2017-09479, appearing on pages 21830 through 21831 in the issue of Wednesday, May 10, 2017, was never placed on public inspection and was published in error. It should be removed.

[FR Doc. C1-2017-09479 Filed 5-12-17; 8:45 am]

BILLING CODE 1301-00-D